DEPARTMENT OF DEFENSE

Office of the Secretary

Defense Science Board

AGENCY: Department of Defense.

ACTION: Notice of advisory committee meetings.

SUMMARY: The Defense Science Board Task Force on Nuclear Weapons Effects Test, Evaluation and Simulation will meet in closed session on March 17-18, 2004; April 7-8, 2004; May 6-7, 2004; June 21-22, 2004; and July 14-15, 2004, at SAIC, 4001 N. Fairfax Drive, Arlington, VA. The Task Force will review DoD needs and specific requirements for nuclear weapons effects (NWE) test, evaluation and simulation capabilities.

The mission of the Defense Science Board is to advise the Secretary of Defense and the Under Secretary of Defense for Acquisition, Technology & Logistics on scientific and technical matters as they affect the perceived needs of the Department of Defense. At these meetings, the Defense Science Board Task Force will: Review Intelligence Community, DoD and National Nuclear Security Agency estimates of present and future nuclear weapon outputs for all weapons that are used to define the operational threat; review nuclear threat environments as used across DoD Services and Agencies and assess whether they are being defined and applied to develop credible consistent hardness requirements; assess the current NWE predictive capability to confidently predict the response of nuclear and conventional weapon systems and C4 systems to credible nuclear environments that might be encountered over the next 15 years; assess the extent to which alternatives to testing can be used to offset the need for simulation capability; identify both near-term and far-term NWE test and simulation needs responsive to DoD requirements for nuclear systems, strategic and conventional weapon systems belonging to the new Triad as defined in the Nuclear Posture Review, missile defense systems, and C4I systems required to operate in hostile nuclear environments; assess the current NWE simulation and system survivability evaluation capabilities of the DoD, the Department of Energy, and the commercial sector; produce a comprehensive roadmap of NWE test, evaluation and simulation capabilities that will guide future simulator/simulation technology developments, test planning, investment decisions, model development, facility sustainment planning and responsibilities, and realignment/closure alternatives.

In accordance with section 10(d) of the Federal Advisory Committee Act, Pub. L. 92-463, as amended (5 U.S.C. App. II), it has been determined that these Defense Science Board Task Force meetings concern matters listed in 5 U.S.C. 552b(c)(1) and that, accordingly, the meetings will be closed to the public.

Dated: January 23, 2004.
Patricia Toppings,
Alternate OSD Federal Register Liaison Officer, Department of Defense.

[FR Doc. 04-2036 Filed 1-30-04; 8:45 am]

BILLING CODE 5001-06-M